POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: November 26, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC Docket No. | K Docket No.
11/17/25 | PM 945 | MC2026-100 | K2026-100
11/17/25 | PM 946 | MC2026-101 | K2026-101
11/17/25 | PM-GA 920 | MC2026-102 | K2026-102
11/17/25 | PM-GA 921 | MC2026-103 | K2026-103
11/17/25 | PM-GA 922 | MC2026-104 | K2026-104
11/17/25 | PM-GA 923 | MC2026-105 | K2026-105
11/18/25 | PM-GA 924 | MC2026-106 | K2026-106
11/18/25 | PM-GA 925 | MC2026-107 | K2026-107
11/18/25 | PM-GA 926 | MC2026-108 | K2026-108
11/18/25 | PME-PM-GA 1459 | MC2026-109 | K2026-109
11/19/25 | PM-GA 927 | MC2026-110 | K2026-110
11/20/25 | PM 947 | MC2026-111 | K2026-111
11/20/25 | PM-GA 928 | MC2026-112 | K2026-112
11/21/25 | PM 948 | MC2026-113 | K2026-113
11/21/25 | PM-GA 929 | MC2026-114 | K2026-114
11/21/25 | PME-PM-GA 1460 | MC2026-115 | K2026-115
11/21/25 | PM-GA 930 | MC2026-116 | K2026-116

Documents are available at www.prc.gov.

Sean C. Robinson,
Attorney, Corporate and Postal Business Law.

[FR Doc. 2025-21128 Filed 11-25-25; 8:45 am]

BILLING CODE 7710-12-P